DEPARTMENT OF DEFENSE

Defense Logistics Agency

[DOD-2006-OS-0142]

Privacy Act of 1974; Systems of Records

AGENCY: Defense Logistics Agency, DoD.

ACTION: Notice to Add a System of Records.

SUMMARY: The Defense Logistics Agency proposes to add a system of records notice to its inventory of record systems subject to the Privacy Act of 1974 (5 U.S.C. 552a), as amended.

DATES: This action will be effective without further notice on July 14, 2006, unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on June 6, 2006, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 7, 2006.
C.R. Choate,
Alternate OSDA Federal Register Liaison Officer, Department of Defense.

S400.30

System name:

Mass Transportation Fringe Benefit Program—Outside the National Capital Region.

System location:

Headquarters, Defense Logistics Agency, 8725 John J. Kingman Road, Stop 6220, ATTN: DES-B, Fort Belvoir, VA 22060-6221 and the Defense Logistics Agency Field Activities located outside the National Capital Region. Official mailing addresses are published as an appendix to DLA's compilation of systems of records notices.

U.S. Department of Transportation, TRANServe, 400 7th Street, SW., Room P2-0327, Washington, DC 20590-0001.

Categories of individuals covered by the system:

Defense Logistics Agency (DLA) civilian and military employees; non-appropriated funded employees, interns/students employed and paid directly by DoD (i.e., interns/students hired through contractual agreements are not eligible); eligible interns/students hired for the summer months; members of the Reserve Components who are performing active duty for more than 30 days located outside the National Capital Region who apply for and/or obtain a transit subsidy under the Mass Transportation Fringe Benefit Program (MTFBP); registered and non-registered vanpool owners/operators.

Categories of records in the system:

Records include applicant's full name, last four digits of their Social Security Number, home address, office symbol and duty location, office telephone number, mode of transportation being used, cost(s) of commuting, reimbursement claim for expenditures, period covered, and amount of reimbursement, and records of vouchers, receipts or payments distributed, dates of participation and termination in program, and vanpool owner/operator certification.

Authority for maintenance of the system:

5 U.S.C. 301, Departmental Regulations; 5 U.S.C. 7905, Programs to Encourage Commuting by Means Other Than Single-Occupancy Motor Vehicles; E.O. 12191, Federal Facility Ride Sharing Program; E.O. 13150, Federal Workforce Transportation; and E.O. 9397 (SSN).

Purpose(s):

Information is collected and maintained for the purpose of managing the DLA Mass Transportation Fringe Benefit Program for participants Outside the National Capitol Region (ONCR), including receipt and processing of employee applications and distribution fo the fare media to employees; to reimburse participants; to track the use of funds used to support the program; to evaluate employee participation in the program; and to prevent misuse of the funds involved.

Participant records may be used by the DLA Field Activity parking authorities for the purpose of identifying those individuals who receive a fare subsidy and also make use of a DLA Field Activity parking sticker.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To U.S. Department of Transportation for the purposes of administering the Public Transportation Benefit Program and/or verifying the eligibility of individuals to receive a fare subsidy pursuant to transportation benefit program operated by the DoD or other Federal agencies.

The DoD ‘Blanket Routine Uses’ set forth at the beginning of the DLA compilation of systems of records notices apply to this system of records.

Policies and practices for storing, retrieving, accessing, retaining, and disposing of records in the system:

Storage:

Records are stored on paper forms and on electronic storage media.

Retrievability:

Information is retrieved by individual's name and last 4 digits of their Social Security Number.

Safeguards:

Records are maintained in a controlled facility. Physical entry is restricted by the use of locks, guards, and is accessible only to authorized personnel. Access to record is limited to person(s) responsible for servicing the records in the performance of their official duties and who are properly screened and cleared for need-to-know. All individuals granted access to this system of records have received Privacy Act training.

Retention and disposal:

Documents relating to the disbursement of transportation subsidies to employees, including applications of employees no longer in the program, superseded applications, certification logs, vouchers, spreadsheets, and other forms used to document the disbursement of subsidies are destroyed when 3 years old.

Documents relating to cash reimbursements for transportation expenses associated with transit passes or vanpools, specifically Standard Form (SF) 1164, entitled “Claim for Reimbursement for Expenditures on Official Business,” are destroyed 6 years and 3 months after period covered by account.

System manager(s) and address:

ONCR Program Manager, Headquarters, Defense Logistics Agency, 8725 John J. Kingman Road, Stop 6220, ATTN: DES-B, Fort Belvoir, VA 22060-6221, and the ONCR Mass Transportation Fringe Benefit Program Points of Contact at the Defense Logistics Agency Field Activities. Official mailing addresses are published as an appendix to DLA's compilation of systems of records notice.

Notification procedure:

Individuals seeking to determine whether information about themselves is contained in this system should address written inquiries to the Privacy Act Officer, Headquarters, Defense Logistics Agency, ATTN: DP, 8725 John J. Kingman Road, Stop 2533, Fort Belvoir, VA 22060-6221, or to the Privacy Act Officer of the DLA Field Activity providing the subsidy. Official mailing addresses are published as an appendix to DLA's compilation of systems of records notices.

Written requests for information should contain the full name of the individual, current address, telephone number, and the DLA Field Activity which provided the subsidy.

Record access procedures:

Individuals seeking access to information about themselves contained in this system should address written inquires to the Privacy Act Officer, Headquarters, Defense Logistics Agency, ATTN: DP, 8725 John J. Kingman Road, Stop 2533, Fort Belvoir, VA 22060-6221, or to the Privacy Act Officer of the DLA Field Activity providing the subsidy. Official mailing addresses are published as an appendix to DLA's compilation of systems of records notices.

Written requests for information should contain the full name of the individual, current address, telephone number, and the DLA Field Activity which provided the subsidy.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Applicant requesting transit subsidies; vanpool owner/operator; other federal agencies providing information regarding fare subsidies; and from periodic certifications and reports regarding fare subsidies.

Exemptions claimed for the system:

None.

[FR Doc. 06-5405 Filed 6-13-06; 8:45 am]

BILLING CODE 5001-06-M